DEPARTMENT OF ENERGY

Federal Energy Regulatory Commission

Combined Notice of Filings #1

Take notice that the Commission received the following electric rate filings:

Docket Numbers: ER18-2362-000.

Applicants: NTE Ohio, LLC.

Description: Report Filing: Refund report to 3 to be effective 9/1/2018.

Filed Date: 12/17/19.

Accession Number: 20191217-5192.

Comments Due: 5 p.m. ET 1/7/20.

Docket Numbers: ER19-38-004.

Applicants: Fairless Energy, L.L.C.

Description: Report Filing: Refund report to be effective N/A.

Filed Date: 12/17/19.

Accession Number: 20191217-5097.

Comments Due: 5 p.m. ET 1/7/20.

Docket Numbers: ER19-1077-001.

Applicants: Wildcat Wind Farm I, LLC.

Description: Report Filing: Wildcat Wind Farm I, Docket No. ER19-1077-000 Refund Report to be effective N/A.

Filed Date: 12/17/19.

Accession Number: 20191217-5026.

Comments Due: 5 p.m. ET 1/7/20.

Docket Numbers: ER19-2845-001.

Applicants: Southwest Power Pool, Inc.

Description: Tariff Amendment: Deficiency Response in ER19-2845-Revisions to Require PMUs to be effective 11/20/2019.

Filed Date: 12/16/19.

Accession Number: 20191216-5120.

Comments Due: 5 p.m. ET 1/6/20.

Docket Numbers: ER20-608-000.

Applicants: Bear Valley Electric Service, Inc.

Description: Baseline eTariff Filing: MBR Application and Requests for Waivers and Blanket Authority to be effective 1/1/2020.

Filed Date: 12/16/19.

Accession Number: 20191216-5138.

Comments Due: 5 p.m. ET 1/6/20.

Docket Numbers: ER20-609-000.

Applicants: Ohio Power Company, AEP Ohio Transmission Company, Inc., PJM Interconnection, L.L.C.

Description: § 205(d) Rate Filing: AEP submits ILDSA, SA No. 1336 and 1 Facilities Agreement to be effective 2/14/2020.

Filed Date: 12/16/19.

Accession Number: 20191216-5155.

Comments Due: 5 p.m. ET 1/6/20.

Docket Numbers: ER20-610-000.

Applicants: Southwest Power Pool, Inc.

Description: § 205(d) Rate Filing: 3505R1 ENGIE Energy Marketing NA & Sunflower Meter Agent Agr to be effective 12/1/2019.

Filed Date: 12/17/19.

Accession Number: 20191217-5000.

Comments Due: 5 p.m. ET 1/7/20.

Docket Numbers: ER20-611-000.

Applicants: Algonquin SKIC 20 Solar, LLC.

Description: § 205(d) Rate Filing: Shared Facilities Agreement to be effective 12/18/2019.

Filed Date: 12/17/19.

Accession Number: 20191217-5058.

Comments Due: 5 p.m. ET 1/7/20.

Docket Numbers: ER20-612-000.

Applicants: Midcontinent Independent System Operator, Inc.

Description: § 205(d) Rate Filing: 2019-12-17_SA 3392 Entergy Arkansas-New Madrid Solar GIA (J944) to be effective 12/3/2019.

Filed Date: 12/17/19.

Accession Number: 20191217-5090.

Comments Due: 5 p.m. ET 1/7/20.

Docket Numbers: ER20-613-000.

Applicants: Midcontinent Independent System Operator, Inc.

Description: § 205(d) Rate Filing: 2019-12-17_SA 3394 UEC-Blue Bird Solar GIA (J817) to be effective 12/3/2019.

Filed Date: 12/17/19.

Accession Number: 20191217-5094.

Comments Due: 5 p.m. ET 1/7/20.

Docket Numbers: ER20-614-000.

Applicants: Alabama Power Company.

Description: § 205(d) Rate Filing: Irwin Solar I LGIA Filing to be effective 12/4/2019.

Filed Date: 12/17/19.

Accession Number: 20191217-5099.

Comments Due: 5 p.m. ET 1/7/20.

Docket Numbers: ER20-615-000.

Applicants: Midcontinent Independent System Operator, Inc.

Description: § 205(d) Rate Filing: 2019-12-17_SA 3393 Ameren IL-Orion Renewable Resources GIA (J826) to be effective 12/3/2019.

Filed Date: 12/17/19.

Accession Number: 20191217-5100.

Comments Due: 5 p.m. ET 1/7/20.

Docket Numbers: ER20-616-000.

Applicants: PJM Interconnection, L.L.C.

Description: § 205(d) Rate Filing: First Revised ISA, SA No. 3878 and Original ICSA, SA No. 5532; Queue No. AE2-064 to be effective 11/18/2019.

Filed Date: 12/17/19.

Accession Number: 20191217-5157.

Comments Due: 5 p.m. ET 1/7/20.

Docket Numbers: ER20-617-000.

Applicants: New York Independent System Operator, Inc.

Description: § 205(d) Rate Filing: NYISO 205 tariff revisions of Cost Containment in PPTPP to be effective 2/16/2020.

Filed Date: 12/17/19.

Accession Number: 20191217-5158.

Comments Due: 5 p.m. ET 1/7/20.

Docket Numbers: ER20-618-000.

Applicants: PJM Interconnection, L.L.C.

Description: § 205(d) Rate Filing: Amendment to WMPA, SA No. 3355; Queue No. W3-044 (amend) to be effective 2/4/2014.

Filed Date: 12/17/19.

Accession Number: 20191217-5171.

Comments Due: 5 p.m. ET 1/7/20.

Docket Numbers: ER20-619-000.

Applicants: ISO New England Inc.

Description: Informational Filing of Contract of ISO New England Inc.

Filed Date: 12/17/19.

Accession Number: 20191217-5178.

Comments Due: 5 p.m. ET 1/7/20.

Docket Numbers: ER20-620-000.

Applicants: PJM Interconnection, L.L.C.

Description: § 205(d) Rate Filing: Amendment to Service Agreement No. 5314; Queue No. AE1-081 (consent) to be effective 2/17/2019.

Filed Date: 12/17/19.

Accession Number: 20191217-5193.

Comments Due: 5 p.m. ET 1/7/20.

Docket Numbers: ER20-621-000.

Applicants: MP2 Energy LLC.

Description: § 205(d) Rate Filing: Notice of Non-Material Change in Status & SE Change in Cat. Seller Status to be effective 12/18/2019.

Filed Date: 12/17/19.

Accession Number: 20191217-5194.

Comments Due: 5 p.m. ET 1/7/20.

Docket Numbers: ER20-622-000.

Applicants: MP2 Energy NE LLC.

Description: § 205(d) Rate Filing: Notice of Non-Material Change in Status & SE Change in Cat. Seller Status to be effective 12/18/2019.

Filed Date: 12/17/19.

Accession Number: 20191217-5195.

Comments Due: 5 p.m. ET 1/7/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2019.
Kimberly D. Bose,
Secretary.

[FR Doc. 2019-28207 Filed 12-30-19; 8:45 am]

BILLING CODE 6717-01-P